DEPARTMENT OF ENERGY

Federal Energy Regulatory Commission

[Docket No. RP05-463-001]

NGO Transmission, Inc.; Notice of Proposed Changes in Ferc Gas Tariff

September 7, 2005.

Take notice that on August 29, 2005, NGO Transmission, Inc. (NGO) tendered for filing to become part of its FERC Gas Tariff, Volume No. 1, Substitute Second Revised Sheet No. 113, which has a proposed effective date of September 1, 2005. NGO states that this filing was submitted in compliance with the order issued by the Commission in the above-referenced docket on August 18, 2005.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant and on all parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208 3676 (toll free). For TTY, call (202) 502 8659.

Magalie R. Salas,
Secretary.

[FR Doc. E5-4982 Filed 9-12-05; 8:45 am]

BILLING CODE 6717-01-P